FEDERAL COMMUNICATIONS COMMISSION

[OMB 3060-XXXX; FR ID 281227]

Information Collection Being Reviewed by the Federal Communications Commission

AGENCY: Federal Communications Commission.

ACTION: Notice and request for comments.

SUMMARY: As part of its continuing effort to reduce paperwork burdens, and as required by the Paperwork Reduction Act (PRA), the Federal Communications Commission (FCC or Commission) invites the general public and other Federal agencies to take this opportunity to comment on the following information collections. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

DATES: Written comments should be submitted on or before April 28, 2025. If you anticipate that you will be submitting comments, but find it difficult to do so within the period of time allowed by this notice, you should advise the contacts below as soon as possible.

ADDRESSES: Direct all PRA comments to Cathy Williams, FCC, via email PRA@fcc.gov and to Cathy.Williams@fcc.gov.

FOR FURTHER INFORMATION CONTACT: For additional information about the information collection, contact Cathy Williams at (202) 418-2918.

SUPPLEMENTARY INFORMATION: The FCC may not conduct or sponsor a collection of information unless it displays a currently valid Office of Management and Budget (OMB) control number. No person shall be subject to any penalty for failing to comply with a collection of information subject to the PRA that does not display a valid OMB control number.

As part of its continuing effort to reduce paperwork burdens, and as required by the PRA of 1995 (44 U.S.C. 3501-3520), the FCC invites the general public and other Federal agencies to take this opportunity to comment on the following information collections. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

OMB Control Number: 3060-XXXX.

Title: FM Booster Program Origination Notification; Form 2100, Schedule 336; 47 CFR 74.1206.

Form Number: Form 2100, Schedule 336.

Type of Review: New collection.

Respondents: Business or other for-profit entities.

Number of Respondents and Responses: 1,260 respondents; 1,260 responses.

Estimated Hours per Response: 1 hour-10 hours.

Frequency of Response: On occasion reporting requirement.

Total Annual Burden: 1,350 hours.

Total Annual Cost: $568,500.

Obligation to Respond: Required to obtain or retain benefits. The statutory authority for this collection of information is contained in Sections 154(i), 303, 310, and 553 of the Communications Act of 1934, as amended.

Needs and Uses: On November 21, 2024, the Commission adopted the Second Report and Order and Order on Reconsideration, MB Docket Nos. 20-401, 17-105, FCC 24-121 (Second Report and Order), which allows FM and low power FM (LPFM) broadcasters to use FM booster stations to originate program content, for up to three minutes of each hour. This option allows FM and LPFM broadcasters to air programming on booster stations different from their primary station to better meet the needs and interests of local listeners.

FM boosters are low power, secondary stations that operate in the FM broadcast band. They must be licensed to the same broadcaster and on the same frequency as the primary station, and rebroadcast that primary station's signal within its protected contour. Until this proceeding, FM boosters were traditionally used only as a means to enhance weak signals of a primary FM station and could not originate programming. With advances in technology it is now possible for FM broadcasters to customize the content delivered to different parts of their service areas by using boosters to air programming different from their primary FM station. Since the April 2024 adoption of the First Report and Order in this proceeding, MB Docket Nos. 20-401, FCC 17-105, the Commission has allowed the use of program originating FM boosters on a temporary, experimental basis. The Second Report and Order now establishes specific processing, licensing, and service rules and permanently authorizes broadcasters to originate programming on FM boosters without the need for an experimental authorization.

Program Origination Notification Form. In the Second Report and Order, the Commission establishes that FM licensees can apply for boosters on a first come/first served basis. Before commencing program origination the licensee will file a notification (FM Booster Program Origination Notification) using an electronic form that will be available in the Media Bureau's Licensing and Management System (LMS) database. The notification will enable the Commission and interested parties to identify which FM boosters are originating programming. Program originating FM booster licensees will be required to file the notification form in LMS 15 days prior to commencing origination, and 30 days after permanently terminating origination. Per 47 CFR 74.1232(g), no more than 25 program originating booster stations may be licensed to a single full service FM broadcast station. A separate form is required for each FM booster station.

To facilitate the rollout of this service, the Commission directed the Media Bureau to create a notification form and consistent with this directive, the Media Bureau created the FM Booster Program Origination Notification, FCC Form 2100, Schedule 336. The information requested in the FM Booster Program Origination Notification should assist interested parties in raising any program-origination-related concerns as complaints (at any time) or as objections during the license renewal process, and the Bureau will best be able to respond to any complaints that may arise.

Accordingly, as directed by Commission in the Second Report and Order, the Bureau is creating the FM Booster Program Origination Notification, which, in addition to the standard general contact information, includes the following elements:

(1) The call sign and facility identification number of the program originating FM booster station;

(2) If applicable, the date on which the program originating FM booster station will commence (or has terminated) originating content;

(3) The name and telephone number of a technical representative the Commission or the public can contact in the event of interference;

(4) A certification that the program originating FM booster station complies with all Emergency Alert System (EAS) requirements contained in part 11 of our rules;

(5) A certification that the program originating FM booster station will originate programming for no more than three minutes of each broadcast hour; and

(6) A certification that the program originating FM booster minimizes interference to the primary station through synchronization or terrain shielding.

To implement this new information requirement contained in the Second Report and Order, the Commission added new section 74.1206 to the rules. This new information collection regarding the FM Booster Program Origination Notification and 47 CFR 74.1206 needs OMB review and approval.

EAS-specific Notification. In response to public safety concerns about the potential impact on the Emergency Alert System (EAS), the Commission will also require primary station broadcasters whose signals are specified in a state emergency communications plan, to notify their State Emergency Communications Committee(s) (SECC) of their use of program originating boosters. Broadcasters must notify the appropriate SECC(s) at least 30 days prior to employing a program originating booster, or implementing a change to a booster's status. This requirement has also been codified in new rule section 74.1206. This information collection regarding the EAS-specific notification and 47 CFR 74.1206 need OMB review and approval.

OPIF Public Interest Certification by Licensees of Program Originating FM Boosters. To ensure that program originating booster stations are used appropriately and equitably, the Commission adopted a public interest self-certification requirement. Specifically, every licensee of a full service FM primary station using a program originating FM booster station, as defined in 47 CFR 74.1201(f)(2), shall concurrently with its quarterly issues programs lists for the primary station, place a booster public interest certification in the online public file of its FM primary station. The certification must contain the call sign(s) of the relevant booster(s) and certify that in originating programming over the booster(s), the licensee has considered the characteristics and needs of the coverage area of the booster station and has not used the booster to exclude or diminish service to other populations within that area or any other area served by the booster's primary station. This requirement has been codified in rule sections 73.3526(a)(3) and (e)(20), and 73.3527(a)(3) and (e)(16), the online public inspection file rule for commercial stations and noncommercial educational stations, respectively. This information collection regarding the OPIF public interest certification by licensees of program originating FM boosters, and the modifications to 47 CFR 73.3526 and 73.3527, need OMB review and approval.

Interference Regarding FM Booster Applications. In the Second Report and Order the Commission adopted the proposed amendment to section 74.1204(f) of the rules to provide a mechanism for complaints of predicted interference against a pending FM booster construction permit application. By amending section 74.1204(f) to allow complaints of predicted interference against pending FM booster construction permit applications, we are establishing a process that will provide the earliest indication that a developing booster station may cause interference that must be resolved under 74.1203 once the booster station commences broadcasts. This early warning is best received prior to investing in the development of a booster station. This information collection regarding the predicted interference complaint process at the construction permit application stage, and the modification to 47 CFR 74.1204(f), need OMB review and approval.

The following rule sections are covered by this information collection and require OMB approval:

§ 74.1206 Program Originating FM Booster Station Notifications

(a) A program originating FM booster station must electronically file an FM Booster Program Origination Notification with the Commission in LMS using the form provided for this purpose, before commencing or after terminating the broadcast of booster-originated content subject to the provisions of § 74.1201(f)(2) of this part. Such a notification must be filed within 15 days before commencing origination, or within 30 days after terminating origination.

(b) A primary FM station that is designated in a state emergency communications plan as an Emergency Alert Service Local Primary (LP), State Primary (SP), State Relay (SR), or otherwise monitored as an over-the-air source of EAS messages must notify the proper State Emergency Communications Committee(s) of its intent to transmit unique local programing on one or more program originating FM boosters at least 30 days prior to employing a program originating booster, or implementing changes to booster status. The notification should disclose whether the booster(s) will simulcast the primary station or remain off-air during periods when not originating programming and advise continued monitoring of the primary station and not of a booster.

(c) Stations employing program originating boosters must report to the Commission's Operations Center, at FCCOPS@fcc.gov, any problems of which they become aware concerning EAS-related interference.

§ 73.3526 Online Public Inspection File of Commercial Stations

(a)(3) Every permittee or licensee of a program originating FM booster station, as defined in § 74.1201(f)(2) of this chapter, shall maintain in the political file of its FM primary station the records required in § 73.1943 of this part for each such program originating FM booster station.

(e)(20) Certification by Licensees of Program Originating FM Boosters. Every licensee of an FM primary station using a program originating FM booster station, as defined in § 74.1201(f)(2) of this chapter, shall concurrently with its quarterly issues programs lists for the primary station, place a booster public interest certification in the online public file of its FM primary station. The certification must contain the call sign(s) of the relevant booster(s) and certify that in originating programming over the booster(s) the licensee has considered the characteristics and needs of the coverage area of the booster station and has not used the booster to exclude or diminish service to other populations within that area or any other area served by the booster's primary station.

§ 73.3527 Online Public Inspection File of Noncommercial Educational Stations

(a)(3) Every permittee or licensee of a program originating FM booster station, as defined in § 74.1201(f)(2) of this chapter, in the noncommercial educational broadcast service shall maintain in the political file of its FM primary station the records required in § 73.1943 of this part for each such program originating FM booster station.

(e)(16) Certification by Licensees of Program Originating FM Boosters. Every licensee of an FM primary station using a program originating FM booster station, as defined in § 74.1201(f)(2) of this chapter, shall concurrently with its quarterly issues programs lists for the primary station, place a booster public interest certification in the online public file of its FM primary station. The certification must contain the call sign(s) of the relevant booster(s) and certify that in originating programming over the booster(s) the licensee has considered the characteristics and needs of the coverage area of the booster station and has not used the booster to exclude or diminish service to other populations within that area or any other area served by the booster's primary station.

§ 74.1204(f) Protection of FM Broadcast, FM Translator and LP100 Stations

(1) An application for an FM translator station will not be granted even though the proposed operation would not involve overlap of field strength contours with any other station, as set forth in paragraph (a) of this section, if grant of the authorization will result in interference to the reception of a regularly used, off-the-air signal of any authorized co-channel, first, second or third adjacent channel broadcast station, including previously authorized secondary service stations within the 45 dBμ field strength contour of the desired station.

(2) An application for an FM broadcast booster station will not be granted even though the proposed operation would not involve overlap of field strength contours with any other station, as set forth in paragraph (i) of this section, if grant of the authorization will result in interference to the reception of a regularly used, off-the-air signal of any authorized co-channel, first, second or third adjacent channel broadcast station, other than the booster's primary station, but including previously authorized secondary service stations within the 45 dBμ field strength contour of the desired station.

(3) Interference, with regard to either an FM translator station or an FM broadcast booster station application, is demonstrated by:

(iv) A statement that the complaining station licensee has used commercially reasonable efforts to inform the relevant translator or booster licensee of the claimed interference and attempted private resolution.

Federal Communications Commission.
Marlene Dortch,
Secretary, Office of the Secretary.

[FR Doc. 2025-03057 Filed 2-24-25; 8:45 am]

BILLING CODE 6712-01-P